DEPARTMENT OF COMMERCE

International Trade Administration

[A-533-810]

Stainless Steel Bar from India: Notice of Extension of Time Limit for the Final Results of the 2006 New Shipper Review

AGENCY: Import Administration, International Trade Administration, Department of Commerce.

EFFECTIVE DATE: September 12, 2007.

FOR FURTHER INFORMATION CONTACT: Devta Ohri or Brandon Farlander, AD/CVD Operations, Office 1, Import Administration, International Trade Administration, U.S. Department of Commerce, 14th Street and Constitution Avenue, NW., Washington, DC 20230, telephone (202) 482-3853 and (202) 482-0182, respectively.

SUPPLEMENTARY INFORMATION:

Statutory Time Limits

Section 751(a)(2)(B)(iv) of the Tariff Act of 1930, as amended (the Act), and 19 CFR 351.214(i)(1) of the Department of Commerce's (Department) regulations require the Department to issue the preliminary results of a new shipper review within 180 days after the date on which the new shipper review was initiated, and the final results of review within 90 days after the date on which the preliminary results were issued. However, if the Department determines that the issues are extraordinarily complicated, 751(a)(2)(B)(iv) of the Act and 19 CFR 351.214(i)(2) allow the Department to extend the deadline for the final results to up to 150 days after the date on which the preliminary results were issued.

Background

On September 26, 2006, the Department published a notice of initiation of a new shipper review of the antidumping duty order on stainless steel bar from India for Ambica Steels Limited (Ambica), covering the period February 1, 2006, through July 31, 2006. See Stainless Steel Bar from India: Notice of Initiation of Antidumping Duty New Shipper Review, 71 FR 56105 (September 26, 2006). On July 17, 2007, the Department issued the preliminary results of review. The preliminary results were published on July 23, 2007. See Stainless Steel Bar from India: Preliminary Results of Antidumping Duty New Shipper Review, 72 FR 40113 (July 23, 2007). The final results for this review are currently due no later than October 15, 2007.

Extension of Time Limits for Preliminary Results

Pursuant to section 751(a)(2)(B)(iv) of the Act, the Department may extend the deadline for completion of the final results of a new shipper review if it determines that the case is extraordinarily complicated. The Department issued a supplemental questionnaire (dealing with sales and cost issues) to Ambica following the preliminary results, and the Department needs additional time to analyze Ambica's response. In addition, the Department is planning to conduct a sales and cost verification of Ambica in September. As a result, the Department has determined that this review is extraordinarily complicated, and the final results of this new shipper review cannot be completed within the statutory time limit of 90 days. Therefore, in accordance with section 751(a)(2)(B)(iv) of the Act and 19 CFR 351.214(i)(2), the Department is extending the time limit for the completion of the final results by 60 days, until no later than December 14, 2007.

This notice is published pursuant to sections 751(a)(2)(B)(iv) and 777(i)(1) of the Act.

Dated: September 5, 2007.
Gary Taverman,
Acting Deputy Assistant Secretary for Import Administration.

[FR Doc. E7-17992 Filed 9-11-07; 8:45 am]

BILLING CODE 3510-DS-P